DEPARTMENT OF COMMERCE

National Oceanic and Atmospheric Administration

[I.D. 042105A]

General Advisory Committee to the U.S. Section to the Inter-American Tropical Tuna Commission (IATTC); Meeting Announcement

AGENCY: National Marine Fisheries Service (NMFS), National Oceanic and Atmospheric Administration (NOAA), Commerce.

ACTION: Notice; public meeting.

SUMMARY: NMFS announces the meeting of the General Advisory Committee to the U.S. Section to the IATTC on May 12, 2005.

DATES: The open session of the General Advisory Committee meeting will be held on May 12, 2005, from 9 a.m. to 12 p.m. If necessary, a closed session will be held May 12, 2005, from 1 p.m. to 5 p.m.

ADDRESSES: The meeting will be held at NMFS, Southwest Regional Office, 501 West Ocean Blvd., Suite 3300, Long Beach, California, 90803-4213.

FOR FURTHER INFORMATION CONTACT: J. Allison Routt at (562) 980-4019.

SUPPLEMENTARY INFORMATION: In accordance with the Tuna Conventions Act, as amended, the Department of State has appointed a General Advisory Committee to the U.S. Section to the IATTC. The U.S. section consists of the four U.S. Commissioners to the IATTC and the representative of the Deputy Assistant Secretary of State for Oceans and Fisheries. The Advisory Committee supports the work of the U.S. Section in a solely advisory capacity with respect to U.S. participation in the work of the IATTC, with particular reference to the development of policies and negotiating positions pursued at meetings of the IATTC. NMFS, Southwest Region, administers the Advisory Committee in cooperation with the Department of State.

The General Advisory Committee to the U.S. Section to the IATTC will meet to receive and discuss information on: (1) the results of the June 2004 Annual Meeting of the IATTC, (2) 2004 IATTC activities, (3) recent and upcoming meetings of IATTC working groups, and (4) Advisory Committee operational issues. The public will have access to the open session of the meeting, but there will be no opportunity for public comment.

If necessary, the General Advisory Committee will convene an executive session during the afternoon of May 12, 2005, to discuss sensitive information relating to the U.S. negotiating positions on issues on the agenda for the upcoming IATTC meeting and working groups, including conservation and management measures for yellowfin and bigeye tuna for 2005 and 2006, measures to be taken in cases of non-compliance with the IATTC's conservation and management measures, management of fishing capacity, measures to address bycatch and other issues.

Special Accommodations

The meeting location is physically accessible to people with disabilities. Requests for sign language interpretation or other auxiliary aids should be directed to Allison Routt at (562) 980-4019 at least 10 days prior to the meeting date.

Dated: April 21, 2005.
Emily Menashes,
Acting Director, Office of Sustainable Fisheries, National Marine Fisheries Service.

[FR Doc. E5-1969 Filed 4-25-05; 8:45 am]

BILLING CODE 3510-22-S